DEPARTMENT OF HEALTH AND HUMAN SERVICES

Centers for Medicare & Medicaid Services

[CMS-5003-N2]

Medicare Program; Extension of Date of Submissions and Informational Meeting on the Application Process for the End-Stage Renal Disease—Disease Management Demonstration

AGENCY: Centers for Medicare & Medicaid Services (CMS), HHS.

ACTION: Notice of later date of submission of applications and of meeting.

SUMMARY: This notice announces that the date of submission of applications for the End-Stage Renal Disease (ESRD) Disease Management Demonstration is being extended 30 days (until October 2, 2003). This notice also announces an informational meeting to answer questions for and provide guidance to the parties interested in applying for the ESRD Disease Management Demonstration. This demonstration plans to increase the opportunity for Medicare beneficiaries with ESRD to receive integrated disease management services and to test the effectiveness of paying for services received by these beneficiaries in a new way. The meeting is open to the public, but attendance is limited to space available.

DATES: Meeting Date—The Informational meeting announced in this notice will be held on Monday, July 14, 2003, from 1 p.m. to 3 p.m. (Eastern Daylight Time). Deadline for Written Questions and Registration: Any interested party must register and may send written questions by mail, fax, or electronically, on or before 5 p.m. July 9, 2003.

ADDRESSES: The Informational meeting will be held in the main auditorium of the Centers for Medicare & Medicaid Services building, 7500 Security Boulevard, Baltimore, MD 21244. (All inquires should state their interest in attending, and give contact information including organization and telephone number).

Written Questions: Send written questions via mail to following address: Centers for Medicare & Medicaid Services, Attn: Sid Mazumdar, Division of Demonstration Programs, Office of Research, Development, and Information, Centers for Medicare & Medicaid Services,C4-15-27, 7500 Security Boulevard, Baltimore, Maryland 21244-1850.

Please allow sufficient time for mailed comments to be timely received in the event of delivery delays. E-mail to the following e-mail address: ESRDDemo@cms.hhs.gov fax to the following fax number: (410) 786-1048

FOR FURTHER INFORMATION CONTACT: Sid Mazumdar, (410) 786-6673.

SUPPLEMENTARY INFORMATION:

I. Background

On June 4, 2003, we published a demonstration notice “Medicare Program; Demonstration: End-Stage Renal Disease—Disease Management (CMS-5003-N) in the Federal Register (68 FR 33495), that informed interested parties of an opportunity to apply for a waiver that would allow them to participate in the End-Stage Renal Disease (ESRD) Disease Management Demonstration. This new demonstration will foster more types of integrated care for Medicare beneficiaries with ESRD. We seek to test innovative approaches to integrating the chronic care management services for patients with ESRD with other acute care services. The demonstration aims to test the effectiveness of disease management models to increase quality of care for ESRD patients while ensuring that this care is provided more effectively and efficiently. National organizations have defined approaches to disease management, in order to improve patient outcomes while containing health care costs. Disease management programs tend to target persons whose primary health problem is a specific disease, along with comorbid conditions. Interventions tend to be highly structured and emphasize the use of standard protocols and adherence to clinical guidelines.

II. Meeting Format

The initial portion of the meeting will be a presentation of an outline of the proposed demonstration project. The remainder of the meeting will be reserved for a question and answer session for interested parties.

III. Registration Instructions

The Division of Demonstration Programs is coordinating meeting registration. While there is no registration fee, all individuals must register to attend. Because this meeting will be located on Federal property, for security reasons, any persons wishing to attend this meeting must call Sid Mazumdar at (410) 786-6673 or e-mail ESRDDemo@cms.hhs.gov to register by close of business on July 9, 2003. Attendees must show photographic identification to the Federal Protective Service or Guard Service personnel before they will be permitted to enter the building. Individuals who have not registered in advance will not be allowed to enter the building to attend the meeting. Seating capacity is limited to the first 250 registrants. Our Atlanta, Boston, Chicago, Dallas, Denver, Kansas City, New York, Philadelphia, San Francisco, and Seattle, regional offices will host a Satellite Broadcast of the meeting for participants wanting to participate at these locations. These teleconference lines will be allotted on a first come, first serve basis.

Individuals requiring sign language interpretation for the hearing impaired or other special accommodations must contact Sid Mazumdar at least 10 days before the meeting.

Authority: Sections 1102 and 1871 of the Social Security Act (42 U.S.C. 1302 and 1395hh).

(Catalog of Federal Domestic Assistance Program No. 93.773, Medicare—Hospital Insurance; and Program No. 93.774, Medicare—Supplementary Medical Insurance Program)
Dated: June 24, 2003.
Thomas A. Scully,
Administrator, Centers for Medicare & Medicaid Services.

[FR Doc. 03-16398 Filed 6-26-03; 8:45 am]

BILLING CODE 4120-01-P